SMALL BUSINESS ADMINISTRATION

[Declaration of Disaster #P030]

Federated States of Micronesia

As a result of the President's major disaster declaration for Public Assistance on April 10, 2004, the U.S. Small Business Administration is activating its disaster loan program only for private non-profit organizations that provide essential services of a governmental nature. I find that the State of Yap within the Federated States of Micronesia constitutes a disaster area due to damages caused by Typhoon Sudal occurring on April 8, 2004, and continuing. Applications for loans for physical damage as a result of this disaster may be filed until the close of business on June 9, 2004 at the address listed below or other locally announced locations: U.S. Small Business Administration, Disaster Area 4 Office, P.O. Box 419004, Sacramento, CA 95841-9004.

The interest rates are:

| Percent
For Physical Damage:
Non-Profit Organizations Without Credit Available Elsewhere | 2.900
Non-Profit Organizations With Credit Available Elsewhere | 4.875

The number assigned to this disaster for physical damage is P03008.

(Catalog of Federal Domestic Assistance Program Nos. 59008)
Dated: April 12, 2004.
Herbert L. Mitchell,
Associate Administrator for Disaster Assistance.

[FR Doc. 04-8728 Filed 4-16-04; 8:45 am]

BILLING CODE 8025-01-P